NUCLEAR REGULATORY COMMISSION

[NRC-2014-0001]

Sunshine Act Meeting Notice

DATE: Weeks of August 4, 11, 18, 25, September 1, 8, 2014.

PLACE: Commissioners' Conference Room, 11555 Rockville Pike, Rockville, Maryland.

STATUS: Public and Closed.

Week of August 4, 2014

There are no meetings scheduled for the week of August 4, 2014.

Week of August 11, 2014—Tentative

There are no meetings scheduled for the week of August 11, 2014.

Week of August 18, 2014—Tentative

There are no meetings scheduled for the week of August 18, 2014.

Week of August 25, 2014—Tentative

There are no meetings scheduled for the week of August 25, 2014.

Week of September 1, 2014—Tentative

There are no meetings scheduled for the week of September 1, 2014.

Week of September 8, 2014—Tentative

Tuesday, September 9, 2014

9:30 a.m. Briefing on NRC International Activities (Closed-Ex. 1 & 9)

Wednesday, September 10, 2014

9:30 a.m. Strategic Programmatic Overview of the New Reactors Business Line (Public Meeting) (Contact: Donna Williams, 301-415-1322)

This meeting will be webcast live at the Web address— http://www.nrc.gov/.

* * * * *

The schedule for Commission meetings is subject to change on short notice. To verify the status of meetings, call Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at Kimberly.Meyer-Chambers@nrc.gov. Determinations on requests for reasonable accommodation will be made on a case-by-case basis.

* * * * *

Members of the public may request to receive this information electronically. If you would like to be added to the distribution, please contact the Office of the Secretary, Washington, DC 20555 (301-415-1969), or send an email to Darlene.Wright@nrc.gov.

Dated: July 31, 2014.
Richard J. Laufer,
Policy Coordinator, Office of the Secretary.

[FR Doc. 2014-18508 Filed 7-31-14; 4:15 pm]

BILLING CODE 7590-01-P